DEPARTMENT OF HEALTH AND HUMAN SERVICES

Centers for Disease Control and Prevention

[Program Announcement 03151]

Institutional Strengthening of People Living With HIV/AIDS Networks in the Caribbean Region; Notice of Intent To Fund Single Eligibility Award

A. Purpose

The Centers for Disease Control and Prevention (CDC) announces the intent to fund fiscal year (FY) 2003 funds for a cooperative agreement program to provide support to people living with HIV/AIDS in the Caribbean. This will be accomplished by developing the communication and institutional infrastructure of the People Living with HIV/AIDS (PLWHA) Networks in the area. The Catalog of Federal Domestic Assistance number for this program is 93.941.

B. Eligible Applicant

Assistance will be provided only to the Caribbean Regional Network of Persons Living with HIV/AIDS (CRN+). No other applications are solicited. This is the original, and only network of PLWHA in this region that links twenty-seven islands, seven active national networks, and a functioning regional office based in Port of Spain, Trinidad. CRN+ also has the support of the Global Network of PLWHA and the International Community of Women Living With HIV/AIDS. Since 1996, CRN+ has addressed the most pertinent issues relating to HIV/AIDS and plays an integrally esteemed role throughout the region among PLWHA and partner agencies alike. CRN+ is a member of the Pan Caribbean Partnership Against AIDS (PANCAP) that developed and implements the Caribbean regional strategic plan to combat HIV and AIDS.

C. Funding

Approximately $60,000 is available in FY 2003 to fund this award. It is expected that the award will begin on or before September 15, 2003, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Ethleen Lloyd, CDC GAP Caribbean Regional Office, 9 Alexandra Street, Port of Spain, Trinidad and Tobago, Phone: 1-868-622-3153, E-mail: esl1@cdc.gov.

Dated: August 5, 2003.
Edward Schultz,
Acting Director, Procurement and Grants Office, Centers for Disease Control and Prevention.

[FR Doc. 03-20355 Filed 8-8-03; 8:45 am]

BILLING CODE 4163-18-P